DEPARTMENT OF HEALTH AND HUMAN SERVICES

Centers for Disease Control and Prevention

[Docket No. CDC-2024-0014]

Draft Infection Control in Healthcare Personnel: Epidemiology and Control of Selected Infections Transmitted Among Healthcare Personnel and Patients: Cytomegalovirus and Parvovirus B19 Sections and Draft Source Control Definition

AGENCY: Centers for Disease Control and Prevention (CDC), Department of Health and Human Services (HHS).

ACTION: Notice with comment period.

SUMMARY: The Centers for Disease Control and Prevention (CDC), in the Department of Health and Human Services (HHS), announces the opening of a docket to obtain comment on the Draft Infection Control in Healthcare Personnel: Epidemiology and Control of Selected Infections Transmitted Among Healthcare Personnel and Patients: Cytomegalovirus and Parvovirus B19 Sections (“Draft Guideline: Cytomegalovirus and Parvovirus B19 Sections”), and on the accompanying Draft “Source Control” Definition adapted for Infection Control in Healthcare Personnel to be in the “Terminology” Appendix. The updated recommendations in the Draft Guideline: Cytomegalovirus and Parvovirus B19 Sections are intended for use by the leaders and staff of Occupational Health Services (OHS), as further provided herein. These updated recommendations will help facilitate the provision of occupational infection prevention and control services to healthcare personnel (HCP) who have been exposed or infected and may be contagious to others in the workplace.

DATES: Written comments must be received on or before April 26, 2024.

ADDRESSES: You may submit comments, identified by Docket No. CDC-2024-0014 by either of the methods listed below. Do not submit comments by email. CDC does not accept comments by email.

• Federal eRulemaking Portal: http://www.regulations.gov. Follow the instructions for submitting comments.

• Mail: Healthcare Infection Control Practices Advisory Committee (HICPAC) Secretariat, Division of Healthcare Quality Promotion, Centers for Disease Control and Prevention, 1600 Clifton Road NE, Mailstop H16-3, Atlanta, Georgia 30329, Attn: Docket Number CDC-2024-0014.

Instructions: All submissions received must include the agency name and Docket Number. All relevant comments received will be posted without change to http://regulations.gov, including any personal information provided. For access to the docket to read background documents or comments received, go to http://www.regulations.gov.

FOR FURTHER INFORMATION CONTACT: Laura Wells, Division of Healthcare Quality Promotion, Centers for Disease Control and Prevention, 1600 Clifton Road NE, Mailstop H16-2, Atlanta, Georgia 30329; Telephone: (404) 639-4000.

SUPPLEMENTARY INFORMATION:

Public Participation

Interested persons or organizations are invited to participate by submitting written views, recommendations, and data related to the Draft Guideline: Cytomegalovirus and Parvovirus B19 Sections, and the accompanying Draft “Source Control” Definition.

Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. Do not submit comments by email. CDC does not accept comments by email.

Background

The Draft Guideline: Cytomegalovirus and Parvovirus B19 Sections, located in the “Supporting & Related Material” tab of the docket, updates the Guideline for infection control in health care personnel, 1998, Part E: Epidemiology and Control of Selected Infections Transmitted Among Health Care Personnel and Patients, and its corresponding recommendations in Part II of the 1998 Guideline: “3. Cytomegalovirus;” and “11. Parvovirus.” The accompanying Draft “Source Control” Definition adapted for Infection Control in Healthcare Personnel to be in the “Terminology” Appendix (https://www.cdc.gov/infectioncontrol/guidelines/healthcare-personnel/terminology.html) is also located in the “Supporting & Related Material” tab of the docket. The 1998 Guideline provided information and recommendations for Occupational Health Services (OHS) of healthcare facilities and systems on the prevention of transmission of infectious diseases among healthcare personnel (HCP) and patients and can be found at https://stacks.cdc.gov/view/cdc/11563.

As described in the Executive Summary of this guideline (https://www.cdc.gov/infectioncontrol/guidelines/healthcare-personnel/exec-summary.html), in this document, “OHS” is used synonymously with “Employee Health,” “Employee Health Services,” “Employee Health and Safety,” “Occupational Health,” and other such programs. OHS refers to the group, department, or program that addresses many aspects of health and safety in the workplace for HCP, including the provision of clinical services for work-related injuries, exposures, and illnesses. In healthcare settings, OHS addresses workplace hazards including communicable diseases; slips, trips, and falls; patient-handling injuries; chemical exposures; HCP burnout; and workplace violence.

This Draft Guideline: Cytomegalovirus and Parvovirus B19 Sections update is part of a larger guideline update: Infection Control in Healthcare Personnel. Part I, Infrastructure and Routine Practices for Occupational Infection Prevention and Control Services (2019), and the Diphtheria, Group A Streptococcus, Meningococcal Disease, Pertussis, and Rabies sections of Part II, Epidemiology and Control of Selected Infections Transmitted Among Healthcare Personnel and Patients (2022) are complete and have been published on the CDC Infection Control Guideline website: https://www.cdc.gov/infectioncontrol/guidelines/healthcare-personnel/index.html. The Draft Guideline: Cytomegalovirus and Parvovirus B19 Sections, once finalized, is intended for use by the leaders and staff of OHS to guide the management of exposed or infected HCP who may be contagious to others in the workplace. The draft recommendations in Draft Guideline: Cytomegalovirus and Parvovirus B19 Sections update the 1998 recommendations with current guidance on the management of HCP exposed to or potentially infected with cytomegalovirus or parvovirus B19, focusing on postexposure management, including postexposure prophylaxis, for exposed HCP and work restrictions for exposed or infected HCP. The adapted Draft “Source Control” Definition is being added to the “Terminology” Appendix of the Infection Control in Healthcare Personnel Guideline (https://www.cdc.gov/infectioncontrol/guidelines/healthcare-personnel/terminology.html) because the term “Source Control” is used in the Draft Guideline: Parvovirus B19 Section, and may be used in subsequent sections.

Since 2015, the Healthcare Infection Control Practices Advisory Committee (HICPAC) has worked with national partners, academicians, public health professionals, healthcare providers, and other partners to develop Infection Control in Healthcare Personnel (https://www.cdc.gov/infectioncontrol/guidelines/healthcare-personnel/index.html) as a segmental update of the 1998 Guideline. HICPAC is a Federal advisory committee appointed to provide advice and guidance to HHS and CDC regarding the practice of infection control and strategies for surveillance, prevention, and control of healthcare-associated infections, antimicrobial resistance, and related events in United States healthcare settings. HICPAC includes, but is not limited to, representatives with expertise in public health, infectious diseases, and infection prevention and control. HICPAC also includes ex officio members who represent regulatory and other Federal agencies, and liaison representatives from professional societies. Draft Guideline: Cytomegalovirus and Parvovirus B19 Sections, once finalized, will be the next sections to be posted to the Infection Control in Healthcare Personnel website. The accompanying Draft “Source Control” Definition will be added to the Infection Control in Healthcare Personnel “Terminology” Appendix (https://www.cdc.gov/infectioncontrol/guidelines/healthcare-personnel/terminology.html).

The updated draft recommendations in Draft Guideline: Cytomegalovirus and Parvovirus B19 Sections are informed by reviews of the 1998 Guideline; CDC resources (e.g., CDC infection control website), infection control guidance, and guidelines, as noted more specifically in the draft document; and new scientific evidence, when available. CDC is seeking comments on the Draft Guideline: Cytomegalovirus and Parvovirus B19 Sections and the accompanying Draft “Source Control” Definition. Please provide references to new evidence and justification to support any suggested revisions or additions. This Draft Guideline: Cytomegalovirus and Parvovirus B19 Sections and the accompanying Draft “Source Control” Definition are not Federal rules or regulations.

Noah Aleshire,
Chief Regulatory Officer, Centers for Disease Control and Prevention.

[FR Doc. 2024-03783 Filed 2-23-24; 8:45 am]

BILLING CODE 4163-18-P